DEPARTMENT OF ENERGY

Federal Energy Regulatory Commission

Combined Notice of Filings #2

Take notice that the Commission received the following exempt wholesale generator filings:

Docket Numbers: EG12-45-000.

Applicants: Palouse Wind, LLC.

Description: Notice of Self-Certification of Exempt Wholesale Generator Status of Palouse Wind, LLC.

Filed Date: 3/21/12.

Accession Number: 20120321-5113.

Comments Due: 5 p.m. ET 4/11/12.

Take notice that the Commission received the following electric rate filings:

Docket Numbers: ER12-1297-000.

Applicants: Delmarva Power & Light Company.

Description: Delmarva Power & Light Company submits tariff filing per 35.1: Amendment to Facilities Agreement between Delmarva and Easton to be effective 3/22/2012.

Filed Date: 3/21/12.

Accession Number: 20120321-5029.

Comments Due: 5 p.m. ET 4/11/12.

Docket Numbers: ER12-1298-000.

Applicants: Southwest Power Pool, Inc.

Description: Southwest Power Pool, Inc. submits tariff filing per 35.13(a)(2)(iii: 2268 ITC-AEPOTC Interconnection Agreement to be effective 3/1/2012.

Filed Date: 3/21/12.

Accession Number: 20120321-5072.

Comments Due: 5 p.m. ET 4/11/12.

Docket Numbers: ER12-1299-000.

Applicants: Wolverine Power Supply Cooperative, Inc.

Description: Wolverine Power Supply Cooperative, Inc. submits tariff filing per 35.13(a)(2)(iii: Amended and Restated Bradley Interconnection Facilities Agreement to be effective 3/22/2012.

Filed Date: 3/21/12.

Accession Number: 20120321-5103.

Comments Due: 5 p.m. ET 4/11/12.

Docket Numbers: ER12-1300-000.

Applicants: Entergy Arkansas, Inc.

Description: Entergy Arkansas, Inc. submits tariff filing per 35.13(a)(2)(iii: EAI PCITSA—43rd Amendment to be effective 6/1/2012.

Filed Date: 3/21/12.

Accession Number: 20120321-5104.

Comments Due: 5 p.m. ET 4/11/12.

Docket Numbers: ER12-1301-000.

Applicants: Zone J Tolling Co., LLC.

Description: Zone J Tolling Co., LLC submits tariff filing per 35.12: Zone J Tolling Co., LLC Market-Based Rate Tariff to be effective 4/30/2012.

Filed Date: 3/21/12.

Accession Number: 20120321-5106.

Comments Due: 5 p.m. ET 4/11/12.

Docket Numbers: ER12-1302-000.

Applicants: Southern California Edison Company.

Description: Southern California Edison Company submits tariff filing per 35.13(a)(2)(iii: Unexecuted LGIA LEAPS Project, The Nevada Hydro Company, Inc. to be effective 5/21/2012.

Filed Date: 3/21/12.

Accession Number: 20120321-5107.

Comments Due: 5 p.m. ET 4/11/12.

Docket Numbers: ER12-1303-000.

Applicants: Entergy Services, Inc.

Description: Entergy Services, Inc., on behalf of Entergy Arkanass, Inc., files EAI's 2012 Wholesale Rate Update for AECC.

Filed Date: 3/21/12.

Accession Number: 20120321-5115.

Comments Due: 5 p.m. ET 4/11/12.

Docket Numbers: ER12-1304-000.

Applicants: Entergy Services, Inc.

Description: Entergy Services, Inc., on behalf of Entergy Arkansas, Inc., files EAI's 2012 Wholesale Rate Update for Arkansas Cities.

Filed Date: 3/21/12.

Accession Number: 20120321-5116.

Comments Due: 5 p.m. ET 4/11/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2012.
Nathaniel J. Davis, Sr.,
Deputy Secretary.

[FR Doc. 2012-7778 Filed 3-30-12; 8:45 am]

BILLING CODE 6717-01-P